DEPARTMENT OF LABOR

Office of Workers' Compensation Programs

[Docket No. WCPO-2020-0002]

Black Lung Benefits Act Self-Insurance: Withdrawal of Guidance

AGENCY: Office of Workers' Compensation Programs, Labor.

ACTION: Withdrawal of notice and request for comments.

SUMMARY: The Office of Workers' Compensation Programs (OWCP) is withdrawing a notice and request for comments entitled “Guidance on Black Lung Benefits Act Self-Insurance,” which was published in the Federal Register on January 8, 2021.

DATES: The withdrawal is effective February 9, 2021.

FOR FURTHER INFORMATION CONTACT: Michael Chance, Director, Division of Coal Mine Workers' Compensation, Office of Workers' Compensation Programs, U.S. Department of Labor, 200 Constitution Avenue NW, Room N-3464, Washington, DC 20210. Telephone: 1-800-347-2502. This is a toll-free number. TTY/TDD callers may dial toll-free 1-800-877-8339 for further information.

SUPPLEMENTARY INFORMATION: On January 8, 2021, OWCP published a notice and request for comments entitled “Guidance on Black Lung Benefits Act Self-Insurance” in the Federal Register. 86 FR 1529 (Jan. 8, 2021). The notice informed and invited comment from the public on a preliminary program bulletin related to coal-mine operators applying to self-insure their liabilities under the Black Lung Benefits Act. 30 U.S.C. 901-944. The comment period under the notice runs through February 8, 2021.

OWCP is now withdrawing the notice and request for comments on the preliminary self-insurance bulletin because the legal bases for publishing the notice—the Department of Labor's PRO Good Guidance Rule (29 CFR part 89) and Executive Order 13891 (84 FR 55235 (Oct. 15, 2019))—have been rescinded or revoked. See 86 FR 7237 (Jan. 27, 2021) (rescinding 29 CFR part 89); E.O. 13992, 86 FR 7049 (Jan. 20, 2021) (revoking E.O. 13891).

OWCP's action is also consistent with the January 20, 2021 memorandum for the Heads of Executive Departments and Agencies from the Assistant to the President and Chief of Staff entitled “Regulatory Freeze Pending Review.” 86 FR 7424 (Jan. 28, 2021). The memorandum directs agencies to pause or delay certain regulatory actions, including actions related to guidance documents, for the purpose of reviewing questions of fact, law, and policy raised therein. OWCP intends to review the self-insurance bulletin and offer the public an opportunity to comment on self-insurance procedures at a later time.

Accordingly, OWCP is withdrawing the notice and request for comments published on January 8, 2021. The withdrawal of the guidance does not change any law, regulation, or other legally binding requirement.

Dated: February 3, 2021.
Christopher J. Godfrey,
Director, Office of Workers' Compensation Programs.

[FR Doc. 2021-02614 Filed 2-8-21; 8:45 am]

BILLING CODE 4510-CR-P